GENERAL SERVICES ADMINISTRATION

[Notice-2015-PM-04; Docket No. 2015-0002; Sequence No. 32]

Notice of Availability of the Final Supplemental Draft Environmental Impact Statement for the Federal Bureau of Investigation Central Records Complex in Winchester County, Virginia

AGENCY: General Services Administration (GSA).

ACTION: Notice of availability.

SUMMARY: Pursuant to the National Environmental Policy Act (NEPA) of 1969, as implemented by the Council on Environmental Quality regulations, the GSA has prepared and filed with the Environmental Protection Agency (EPA), a Supplement to the Final Environmental Impact Statement (SEIS), from May 2007, analyzing the environmental impacts of site acquisition and development of the Federal Bureau of Investigation (FBI), Central Records Complex (CRC), in Frederick County, Virginia.

DATES: Effective Date: The Final SEIS is now available for review. The GSA Record of Decision will be released no sooner than 30 days after EPA publishes its Notice of Availability of the Final SEIS in the Federal Register.

ADDRESSES: The Final SEIS may be viewed online at http://www.fbicrc-seis.com. Paper copies may be viewed at the repositories listed under Supplementary Information.

FOR FURTHER INFORMATION CONTACT: Ms. Courtenay Hoernemann, Project Environmental Planner, 100 S Independence Mall West, Philadelphia PA 19106; or email frederick.va.siteacquisition@gsa.gov.

SUPPLEMENTARY INFORMATION: The proposed FBI facility would consolidate the FBI's records currently housed within the Washington DC area, in addition to field offices and information technology centers nationwide. The project requirements are for an overall square footage of 256,425 gross square feet, and will include the records storage building, support area, visitor's screening facility, service center, and guard booth. Parking is proposed at 427 spaces.

A Notice of Intent to prepare a Supplemental Draft EIS was published in the Federal Register at 80 FR 8311 on February 17, 2015. A public scoping comment period was held for 30 days following publication of the Notice of Intent. GSA published the Notice of Availability of the Supplemental Draft EIS on August 20, 2015 at 80 FR 50631, which began a 45 day public comment period ending on October 5, 2015. A public meeting was held on September 10, 2015 from 6:00 p.m. to 8:00 p.m., Eastern Standard Time (EST), at the War Memorial Building Social Hall at Jim Barnett Park, War Memorial Drive, Winchester, VA.

The Supplemental Draft EIS incorporated by reference and built upon the analyses presented in the 2007 Final EIS, and documented the section 106 process under the National Historic Preservation Act (NHPA) of 1966, as amended (36 CFR part 800). The Supplemental Draft EIS addressed changes to the proposed action relevant to environmental concerns and assessed any new circumstances or information relevant to potential environmental impacts. The alternatives fully evaluated in the Supplemental Draft EIS include the No Action Alternative, the Arcadia Route 50 property, and Whitehall Commerce Center.

The Final Supplemental EIS identifies XXX as the preferred alternative. The proposed action at XXX will result in impacts to water resources, traffic and transportation, biological resources, and geology/topography/soils. Changes between the Final and Draft Supplemental EIS include conclusion on consultation under section 106 of the NHPA, conclusion of consultation under section 7 of the Endangered Species Act with the U.S. Fish & Wildlife Service, and agreement with Virginia Department of Transportation on the Revised Traffic Impact Analysis and site access. The Final Supplemental EIS addresses and responds to agency and public comments on the Supplemental Draft EIS.

The Final Supplemental EIS has been distributed to various federal, state, and local agencies. The Final Supplemental EIS is available for review on the project Web site http://www.fbicrc-seis.com. A printed copy of the document is available for viewing at the following libraries:

• Handley Library, 100 West Piccadilly Street, P.O. Box 58, Winchester, VA 22604

• Bowman Library, 871 Tasker Road, P.O. Box 1300, Stephens City, VA 22655

• Smith Library, Shenandoah University, 718 Wade Miller Drive, Winchester, VA 22601

Dated: January 6, 2016.
John Hofmann,
Division Director, Facilities Management & Services Programs Division, General Services Administration, Mid-Atlantic Region.

[FR Doc. 2016-00330 Filed 1-14-16; 8:45 am]

BILLING CODE 6820-89-P